DEPARTMENT OF ENERGY

Federal Energy Regulatory Commission

[Docket No. EC04-122-000, et al.]

Reliant Energy Aurora, LP, et al.; Electric Rate and Corporate Filings

June 23, 2004.

The following filings have been made with the Commission. The filings are listed in ascending order within each docket classification.

1. Reliant Energy Aurora, LP; Reliant Energy Bighorn, LLC; Reliant Energy Choctaw County, LLC; Reliant Energy Electric Solutions, LLC; Reliant Energy Hunterstown, LLC; Reliant Energy Indian River, LLC; Reliant Energy Maryland Holdings, LLC; Reliant Energy Mid-Atlantic Power Holdings, LLC; Reliant Energy New Jersey Holdings, LLC; Reliant Energy Osceola, LLC; Reliant Energy Seward, LLC; Reliant Energy Shelby County, LP; Reliant Energy Solutions East, LLC;

[Docket No. EC04-122-000]

Take notice that on June 21, 2004, Reliant Energy Aurora, LP, Reliant Energy Bighorn, LLC, Reliant Energy Choctaw County, LLC, Reliant Energy Electric Solutions, LLC, Reliant Energy Hunterstown, LLC, Reliant Energy Indian River, LLC, Reliant Energy Maryland Holdings, LLC, Reliant Energy Mid-Atlantic Power Holdings, LLC, Reliant Energy New Jersey Holdings, LLC, Reliant Energy Osceola, LLC, Reliant Energy Seward, LLC, Reliant Energy Shelby County, LP, and Reliant Energy Solutions East, LLC (collectively, Applicants) have submitted an application pursuant to section 203 of the Federal Power Act, seeking authorization for the disposition of the Applicants' jurisdictional assets that would result from a proposed restructuring of Reliant Energy Retail Holdings, LLC (RERH) and Reliant Energy Power Generation, Inc. (REPG).

The Applicants have requested expedited consideration of their Application and certain waivers.

Comment Date: July 12, 2004.

2. Reliant Energy Wholesale Generation, LLC

[Docket No. EG04-77-000]

Take notice that on June 21, 2004, Reliant Energy Wholesale Generation, LLC (REWG) tendered for filing an application for a determination of exempt wholesale generator status, pursuant to section 32(a)(1) of the Public Utility Holding Company Act and 18 CFR 365 (2003) regulations of the Federal Energy Regulatory Commission.

REWG states that it is a limited liability company organized and existing under the laws of the State of Delaware that will acquire, own and/or operate various electricity generation facilities located across the United States. REWG further states that it will be engaged directly, or indirectly through one or more affiliates as defined in section 2(a)(11)(B) of PUHCA, and exclusively in the business of owning or operating all or part of one or more eligible facilities, and selling electric energy at wholesale.

Comment Date: July 12, 2004.

3. Boralex Stratton Inc.; Boralex Livermore Falls, Inc.; Boralex Ft. Fairfield Inc.; Boralex Ashland Inc.

[Docket Nos. ER98-4652-002, ER01-2569-002, ER02-1175-001, ER01-2568-002]

Take notice that on June 21, 2004, Boralex Industries Inc., on behalf of its subsidiaries Boralex Stratton Inc., Boralex Livermore Falls Inc., Boralex Ft. Fairfield Inc., and Boralex Ashland Inc., a triennial review compliance filing.

Comment Date: July 12, 2004.

4. California Independent System Operator Corporation

[Docket No. ER04-938-000]

Take notice that on June 18, 2004, the California Independent System Operator Corporation (ISO) tendered for filing an amendment to the ISO Tariff (Amendment No. 61), for acceptance by the Commission. The ISO states that the purpose of Amendment No. 61 is to clarify how the decremental reference price is calculated, how resources are shut off according to that price to manage Intra-Zonal Congestion, and how resources dispatched according to that price are settled. The ISO is requesting an effective date of August 18, 2004.

The ISO states that this filing has been served upon the Public Utilities Commission, the California Energy Commission, the California Electricity Oversight Board, all parties with effective Scheduling Coordinator Agreements under the ISO Tariff, and all parties listed on the official service list for Docket No. ER03-683.

Comment Date: July 9, 2004.

5. Georgia Power Company

[Docket No. ER04-939-000]

Take notice that on June 18, 2004, Georgia Power Company (Georgia Power) submitted for filing a proposed amendment to Article 18 of the Revised and Restated Coordination Services Agreement Between and Among Georgia Power Company, Oglethorpe Power Corporation, and Georgia System Operation Corporation. Georgia Power requests an effective date of August 17, 2004.

Comment Date: July 9, 2004.

6. Indiana Michigan Power Company

[Docket No. ER04-941-000]

Take notice that on June 21, 2004, Indiana Michigan Power Company (I&M) tendered for filing with the Commission a Notice of Cancellation for I&M Service Agreement No. 2 under FERC Electric Tariff CO-OP 1 (I&M Electric Tariff No. 6), which became effective July 29, 1982. I&M requests an effective date as of May 1, 2004. I&M also requests that it be designated as First Revised Service Agreement No. 2.

I&M states that a copy of its filing was served upon the Indiana Utility Regulatory Commission and Hoosier Energy Rural Electric Cooperative, Inc.

Comment Date: July 12, 2004.

7. Olde Towne Energy Associates, LLC.

[Docket No. ER04-942-000]

Take notice that on June 21, 2004, Olde Towne Energy Associates, LLC., a Minnesota limited liability company (OTEA), submitted for filing for acceptance of OTEA Rate Schedule FERC No. 1; the granting of certain blanket approvals, including the authority to sell electricity at market-based rates; and the waiver of certain Commission regulations. OTEA states that it intends to engage in wholesale electric power and energy purchases and sales as a marketer. OTEA further states that it is not in the business of generating or transmitting electric power. OTEA requests an effective date of June 28, 2004

Comment Date: July 12, 2004.

8. New York Independent System Operator, Inc.

[Docket No. ER04-943-000]

Take notice that on June 21, 2004, the New York Independent System Operator, Inc. (NYISO) and the New York Transmission Owners filed a joint filing to eliminate export charges on exports to the New England Control Area.

The NYISO states that it has served a copy of this filing upon all parties that have executed Service Agreements under the NYISO's Open Access Transmission Tariff or Services Tariff, the New York State Public Service Commission and to the electric utility regulatory agencies in New Jersey and Pennsylvania.

Comment Date: July 12, 2004.

9. Reliant Energy Wholesale Generation, LLC

[Docket No. ER04-944-000]

Take notice that on June 21, 2004, Reliant Energy Wholesale Generation, LLC (REWG) submitted for filing an application requesting acceptance of REWG's FERC Electric Tariff, Original Volume No. 1; approval of certain blanket authorizations; and waiver of certain Commission's Regulations.

Comment Date: July 12, 2004.

10. Reliant Energy Solutions West, LLC

[Docket No. ER04-945-000]

Take notice that on June 21, 2004, Reliant Energy Solutions West, LLC (Solutions West) submitted for filing a Notice of Cancellation pursuant to 18 CFR 35.15 to reflect the cancellation of its FERC Electric Tariff, Original Volume No. 1. Solutions West requests an effective date of June 21, 2004.

Comment Date: July 12, 2004.

11. Reliant Energy Desert Basin, LLC

[Docket No. ER04-946-000]

Take notice that on June 21, 2004, Reliant Energy Desert Basin, LLC (Desert Basin) submitted for filing a Notice of Cancellation pursuant to 18 CFR 35.15 to reflect the cancellation of its FERC Electric Tariff, Original Volume No. 1, and Service Agreement No. 1 under that tariff. Desert Basin requests an effective date of June 21, 2004.

Desert Basin states that it has served copies on Reliant Energy Services, Inc., the customer under the service agreement.

Comment Date: July 12, 2004.

12. Indianapolis Power & Light Company

[Docket No. ES04-38-000]

Take notice that on June 15, 2004, Indianapolis Power & Light Company (Applicant) filed an application with the Federal Energy Regulatory Commission seeking authority under section 204 of the Federal Power Act, to issue, from time to time, not to exceed $500 million of short-term debt instruments from the date of the Order, through July 29, 2006, and which will have maturity dates of one year or less from the date of issuance.

Comment Date: July 22, 2004.

13. Fong Wan

[Docket No. ID-4066-000]

Take notice that on June 4, 2004, Fong Wan submitted to the Commission an Application for Authorization to Hold Interlocking Positions pursuant to section 305(b) of the Federal Power Act and Part 45 of the Commission's Regulations.

Comment Date: July 6, 2004.

14. El Paso Corporation

[Docket No. TS04-267-000]

Take notice that on June 7, 2004, El Paso Corporation (El Paso) filed a petition for a declaratory order holding that, following a planned merger, neither Enterprise Products Partners L.P., Enterprise Products GP, LLC, nor any subsidiaries or affiliates of either of those companies will be Energy Affiliates of El Paso or any of its regulated Transmission Provider affiliates under the Order No. 2004 Standards of Conduct.

Comment Date: July 23, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1661 Filed 7-27-04; 8:45 am]

BILLING CODE 6717-01-P